NUCLEAR REGULATORY COMMISSION

[Docket No. 50-128; NRC-2015-0210]

Texas Engineering Experiment Station/Texas A&M University System Nuclear Science Center Reactor

AGENCY: Nuclear Regulatory Commission.

ACTION: License renewal; issuance.

SUMMARY: The U.S. Nuclear Regulatory Commission (NRC) issued a renewal of Facility Operating License No. R-83, held by the Texas Engineering Experiment Station/Texas A&M University System (TEES/TAMUS or the licensee) for the continued operation of its Nuclear Science Center (NSC or the facility) Training, Research, Isotope Production, General Atomics (TRIGA) reactor (NSCR or the reactor) for an additional 20 years.

DATES: The operating license renewal No. R-83 is effective on October 1, 2015.

ADDRESSES: Please refer to Docket ID NRC-2015-0210 when contacting the NRC about the availability of information regarding this document. You may obtain publicly-available information related to this document using any of the following methods:

• Federal Rulemaking Web site: Go to http://www.regulations.gov and search for Docket ID NRC-2015-0210. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it available in ADAMS) is provided the first time that a document is referenced. For the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: Geoffrey A. Wertz, Office of Nuclear Reactor Regulation, U.S. Nuclear Regulatory Commission, Washington, DC 20555-0001; telephone: 301-415-0893; email: Geoffrey.Wertz@nrc.gov.

SUPPLEMENTARY INFORMATION: The NRC has issued renewed Facility Operating License No. R-83, held by the licensee, which authorizes continued operation of the TEES/TAMUS Nuclear Science Center (NSC, or the facility), TRIGA (Training, Research, Isotope Production, General Atomics) reactor (NSCR, or the reactor), located in College Station, Texas. The NSCR is heterogeneous pool-type, natural convection, light-water cooled, and shielded TRIGA reactor. The NSCR is licensed to operate at a steady-state power level of 1,000 kilowatts thermal. The renewed Facility Operating License No. R-83 will expire 20 years from its date of issuance.

The renewed facility operating license complies with the standards and requirements of the Atomic Energy Act of 1954, as amended (the Act), and the Commission's rules and regulations. The Commission has made appropriate findings as required by the Act and the Commission's regulations in chapter I of title 10 of the Code of Federal Regulations (10 CFR), and sets forth those findings in the renewed facility operating license. The agency afforded an opportunity for hearing in the Notice of Opportunity for Hearing published in the Federal Register on June 28, 2010 (75 FR 36710). The NRC received no request for a hearing or petition for leave to intervene following the notice.

The NRC staff prepared a safety evaluation report for the renewal of Facility Operating License No. R-83 and concluded, based on that evaluation, that the licensee can continue to operate the facility without endangering the health and safety of the public. The NRC staff also prepared an Environmental Assessment and Finding of No Significant Impact for the renewal of the facility operating license, noticed in the Federal Register on September 3, 2015 (80 FR 53343), and concluded that renewal of the facility operating license will not have a significant impact on the quality of the human environment.

Availability of Documents

The documents identified in the following table are available to interested persons through ADAMS accession numbers, as indicated.

Document | ADAMS Accession No.
Texas Engineering Experiment Station—Redacted Version—Application for the License Renewal Including the Safety Analysis Report, February 27, 2003 | ML102920025
Redacted Version—Safety Analysis Report for Texas A&M Application for License Renewal and Power Uprate Including Technical Specifications and Environmental Report, July 22, 2009 | ML092530306
Texas A&M University, Response to NRC Requests for Additional Information Questions 9 and 11, Chapter 14—Technical Specifications, July 28, 2010 | ML102150544
Response to NRC Requests for Additional Information RAI 3, Chapter 15—Financial Qualifications, August 30, 2010 | ML102510154
Texas A&M University System—Redacted Version—Response to NRC Non-Financial Requests for Additional Information Questions 1-37 for the TEES Nuclear Science Center Reactor, August 31, 2010 | ML102650318
Response to NRC Requests for Additional Information RAI 3, Chapter 15—Financial Qualifications, from the Texas A&M University System, Texas Engineering Experiment Station, Nuclear Science Center Reactor, December 9, 2010 | ML103470278
Response to NRC Request for Additional Information (RAI) Questions 1 through 37 (Non-Financial), Technical Specifications—Redacted Version, May 27, 2011 | ML111950372
Texas A&M University, Nuclear Science Center, Safety Analysis Report—Redacted Version, June 9, 2011 | ML111950376
Texas A&M University—Redacted Version—Response to NRC Request for Additional Information Questions 1-4, ADAMS Accession No. ML113410067; and Technical Specifications, November 21, 2011 | ML11327A083
Texas A&M University System—Redacted Version—Responses to NRC Requests for Additional Information Questions 1 and 3, January 12, 2012 | ML120260016
Texas A&M University, Updated Technical Specifications for the Nuclear Science Center Reactor, April 11, 2012 | ML12110A116
Updated Technical Specifications and Responses to RAI 3 for the Nuclear Science Center Reactor, November 14, 2012 | ML12321A321
Description of the Neutron Sources and Total Special Nuclear Material Possession Limit Needs, January 31, 2013 | ML13037A307
Response to NRC Requests for Additional Information RAI 1-4, Chapter 15 Financial Qualifications for the Texas A&M University System, Texas Engineering Experiment Station, Nuclear Science Center Reactor, February 3, 2013 | ML14038A106
Response to NRC Requests for Additional Information RAI 1-6, Operator Requalification Program from the Texas A&M University, February 11, 2013 | ML14076A112
Response to NRC Request for Additional Information, Review of the Fuel Pool Temperature on Fuel Temperature for the License Renewal for the Nuclear Science Center Reactor, November 13, 2014 | ML15009A279
Texas A&M University—Response to NRC Request for Additional Information Regarding the Renewal of Facility Operating License No. R-83, March 2, 2015 | ML15065A068
Texas A&M University—Response to NRC Request for Additional Information Regarding the Renewal of Facility Operating License No. R-83, June 5, 2015 | ML15160A023
E-mail to Correct Updated Proposed TEES TS from Jerry Newhouse, June 11, 2015 | ML15187A256
E-mail from Jerry Newhouse RE: Proposed TEES TS Change Section 6.0, June 30, 2015 | ML15182A449

Dated at Rockville, Maryland, this 15th day of October, 2015.
For the Nuclear Regulatory Commission.
Duane Hardesty,
Acting Chief, Research and Test Reactors Licensing Branch, Division of Policy and Rulemaking, Office of Nuclear Reactor Regulation.

[FR Doc. 2015-26746 Filed 10-20-15; 8:45 am]

BILLING CODE 7590-01-P